SMALL BUSINESS ADMINISTRATION

[Disaster Declaration #15370; OREGON Disaster Number OR-00088 Declaration of Economic Injury]

Administrative Declaration Amendment of an Economic Injury Disaster for the State of Oregon

AGENCY: U.S. Small Business Administration.

ACTION: Amendment 1.

SUMMARY: This is an amendment of an Economic Injury Disaster Loan (EIDL) declaration of a disaster for the State of Oregon dated 10/31/2017.

Incident: Eagle Creek Fire.

Incident Period: 09/02/2017 through 11/30/2017.

DATES: Issued on 01/11/2018.

Economic Injury (EIDL) Loan Application Deadline Date: 07/31/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of an Administrative declaration for the State of Oregon, dated 10/31/2017, is hereby amended to establish the incident closing date as 11/30/2017.

All other information in the original declaration remains unchanged.

(Catalog of Federal Domestic Assistance Number 59008)

Dated: January 11, 2018.
Linda E. McMahon,
Administrator.

[FR Doc. 2018-01044 Filed 1-19-18; 8:45 am]

BILLING CODE 8025-01-P